DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Hollow Waveguide Laser Delivery System for Digital Particle Image Velocity

Description of Technology

Available for licensing and commercial development is an all-hollow-waveguide laser delivery system used for effective digital particle image velocimetry (DPIV) illumination. The System incorporates two key optical hollow waveguide components: An uncoated funnel-shaped hollow glass taper for a direct laser-to-taper coupling and a flexible hollow core waveguide for precise high-peak-power laser delivery. The principle of operation of the uncoated hollow taper is based on grazing-incidence effect. The optical taper is used for direct lens-free launching of laser radiation including from powerful lasers into fibers and waveguides. Because of the mutual action of the direct parallel laser excitation, the mode coupling process and mode filtering effect, the hollow taper serves as a mode converter that transforms the highly multimode profile of the input laser emission into a high-quality Gaussian-shaped profile at the taper output. Moreover, because of the lower power density of the output laser beam and its high causality profile, the taper ensures higher damage threshold for the delivery waveguide in comparison to the conventional lens laser-to-fiber coupling. To improve the high-peak-power delivery capability of the proposed allow-hollow-waveguide DPIV illumination system, instead of a conventional solid-core fiber link, we have used a cyclic olefin polymer (COP)-coated hollow glass waveguide which is designed to minimize the waveguide attenuation losses at a typical DPIV laser wavelength of 532-nm. This waveguide provides a significantly higher laser power delivery capability and higher damage threshold. The all-hollow-waveguide DPIV laser delivery system offers essential advanced features over conventional bulk-optics-based delivery techniques in terms of formatting thin (0.5-1.0 mm), wide (10 mm or wider) and uniform laser illumination sheet; high-peak-power laser delivery without damaging effects (> 1 GW/cm2), flexibility, miniaturization, simplified alignment, immunity to external influence (including vibrations and angular laser beam drift), and safe and confined laser delivery.

Applications

2. Optics; Particle imaging: Velocimetry.

Market

4. Illumination, high peak laser powered delivery.

Inventors

6. Ilko K. Ilev, Ronald A. Robinson, Ronald W. Waynant (FDA).

Publications

1. IK Ilev et al., “Grazing-Incidence-Based Hollow Taper for Infrared Laser-to-Fiber Coupling,” Applied Physics Letters, Vol. 74, 1999, pp. 2921-2923.

2. IK Ilev et al., “Uncoated Hollow Taper as a Single Optical Funnel for Laser Delivery,” Review of Scientific Instruments, Vol. 70, 1999, pp. 3840-3843.

3. IK Ilev et al., “Ultraviolet Laser Delivery Using an Uncoated Hollow Taper,” IEEE Journal of Quantum Electronics, Vol. 36, 2000, pp. 944-948.

4. IK Ilev et al., “Attenuation Measurement of Infrared Optical Fibers Using a Hollow-Taper-Based Coupling Method,” Applied Optics, Vol. 39, 2000, pp. 3192-3196.

5. RA Robinson et al., “Design and Optimization of a Flexible High-Peak Power Laser-to-Fiber Coupled Illumination System Used in Digital Particle Image Velocimetry”, Review of Scientific Instruments, Vol. 75, 2004, pp. 4856-4862.

Patent Status

8. U.S. Provisional Application No. 60/730,866 filed 28 Oct 2005 (HHS Reference No. AE-015-2006/0-US-01).

Licensing Status

10. Available for non-exclusive or exclusive licensing.

Licensing Contact

Michael A. Shmilovich, Esq.; 301/435-5019. shmilovm.@mail.nih.gov. <mailto:shmilovm@mail.nih.gov.>

Collaborative Research Opportunity

The Food and Drug Administration's Center for Devices and Radiological Health is seeking statements of capability or interest from parties interested in collaborative research to further develop, evaluate, or commercialize this technology. Please contact the inventors at 301/827-4685 for more information.

Dated: July 28, 2006.
Steven M. Ferguson,
Director, Division of Technology Development and Transfer; Office of Technology Transfer, National Institutes of Health.

[FR Doc. 06-6873 Filed 8-11-06; 8:45 am]

BILLING CODE 4140-01-M